DEPARTMENT OF TRANSPORTATION

Office of the Secretary

Application of U.S. Helicopter Corporation for Certificate Authority

AGENCY: Department of Transportation.

ACTION: Notice of Order to Show Cause (Order 2005-10-12) Docket OST-2005-20405.

SUMMARY: The Department of Transportation is directing all interested persons to show cause why it should not issue an order finding U.S. Helicopter Corporation fit, willing, and able, and awarding it a certificate of public convenience and necessity to engage in interstate scheduled air transportation of persons, property, and mail.

DATES: Persons wishing to file objections should do so no later than October 31, 2005.

ADDRESSES: Objections and answers to objections should be filed in Docket OST-2005-20405 and addressed to U.S. Department of Transportation, Docket Operations, (M-30, Room PL-401), 400 Seventh Street, SW., Washington, DC 20590, and should be served upon the parties listed in Attachment A to the order.

FOR FURTHER INFORMATION CONTACT: Vanessa R. Balgobin, Air Carrier Fitness Division (X-56, Room 6401), U.S. Department of Transportation, 400 Seventh Street, SW., Washington, DC 20590, (202) 366-9721.

Dated: October 17, 2005.
Michael W. Reynolds,
Deputy Assistant Secretary for Aviation and International Affairs.

[FR Doc. 05-21200 Filed 10-21-05; 8:45 am]

BILLING CODE 4910-62-P